DEPARTMENT OF AGRICULTURE

Forest Service

Lewis & Clark County Resource Advisory Committee Meeting

AGENCY: Forest Service, USDA.

ACTION: Notice of meeting.

SUMMARY: The Lewis & Clark County Resource Advisory Committee (RAC) will meet on Wednesday, June 10, 2009, from 6 p.m. until 8 p.m., in Helena, Montana. The purpose of the meeting is to conduct welcomes and introductions, review RAC charter, discuss the guidelines for Title II and Title III funding and proposals, discuss operating protocols, brief RAC members on available funding, capture and record preliminary project ideas, discuss outreach process for project proposals, set a next meeting date and receive public comment on the meeting subjects and proceedings.

DATES: Wednesday, June 10, 2009, from 6 p.m. until 8 p.m.

ADDRESSES: The meeting will be held at the USDA-Helena Ranger District office located at 2001 Poplar, Helena, Montana 59601 (MT 59601).

FOR FURTHER INFORMATION CONTACT: Kathy Bushnell, Committee Coordinator, Helena National Forest, 2880 Skyway Drive, Helena, Montana 59602, 406-495-3747; e-mail: kbushnell@fs.fed.us.

SUPPLEMENTARY INFORMATION: Agenda items to be covered include: (1) Welcome and Committee introductions; (2) Review and revise, if necessary, established RAC charter; (3) discussion of requirements related to Title II and Title III funding; (4) discussion of Committee member roles and operational guidelines; (5) discussion of available funding; (6) discussion of preliminary project ideas and solicitation process to request additional project proposals; (7) review of next meeting purpose, location, and date; (8) and receive public comment. The meeting is open to the public. Public input opportunity will be provided and individuals will have the opportunity to address the Committee at that time.

Dated: May 21, 2009.
Duane Harp,
Designated Federal Official.

[FR Doc. E9-12885 Filed 6-3-09; 8:45 am]

BILLING CODE 3410-12-M